DEPARTMENT OF THE TREASURY

Internal Revenue Service

26 CFR Part 1

[REG-102144-04]

RIN 1545-BD10

Dual Consolidated Loss Regulations; Correction

AGENCY: Internal Revenue Service (IRS), Treasury.

ACTION: Correction to notice of proposed rulemaking.

SUMMARY: This document contains corrections to a notice of proposed rulemaking and notice of public hearing that was published in the Federal Register on Tuesday, May 24, 2005 (70 FR 29868). The proposed regulations provide guidance regarding dual consolidated loss issues, including exceptions to the general prohibition against using a dual consolidated loss to reduce the taxable income of any other member of the affiliated group.

FOR FURTHER INFORMATION CONTACT: Kathryn T. Holman, (202) 622-3840 (not a toll-free number).

SUPPLEMENTARY INFORMATION:

Background

The notice of proposed rulemaking (REG-102144-04) that is the subject of these corrections are under sections 1503, 953 and 367 of the Internal Revenue Code.

Need for Correction

As published, the notice of proposed rulemaking and notice of public hearing (REG-102144-04) contains errors that may prove to be misleading and are in need of clarification.

Correction of Publication

Accordingly, the notice of proposed rulemaking and notice of public hearing (REG-102144-04), that was the subject of FR Doc. 05-10160, is corrected as follows:

1. On page 29869, column 1, in the preamble under the paragraph heading “Background”, paragraph 3 from the top of the column, line 5, the language “as if such unit where a wholly owned” is corrected to read “as if such unit were a wholly owned”

§ 1.1503(d)-4 [Corrected]

2. On page 29897, column 2, “§ 1503(d)-4 (i)(1), line 6, the language, “through (ix) of this section, including” is corrected to read “through (viii) of this section, including”

§ 1.1503(d)-5 [Corrected]

3. On page 29903, column 2, § 1.1503(d)-5(c), paragraph (i), of Example 34., the language, “its worldwide income Fx, a an unrelated” is corrected to read “its worldwide income, Fx, an unrelated”

Cynthia Grigsby,
Acting Chief, Publications and Regulations Branch, Legal Processing Division, Associate Chief Counsel, (Procedure and Administration).

[FR Doc. 05-13381 Filed 7-8-05; 8:45 am]

BILLING CODE 4830-01-P